DEPARTMENT OF TRANSPORTATION

Federal Aviation Administration

Technical Standard Order—C170, High Frequency (HF) Radio Communications Transceiver Equipment Operating Within the Radio Frequency Range 1.5 to 30.00 Megahertz

AGENCY: Federal Aviation Administration (DOT).

ACTION: Notice of availability and requests for public comment.

SUMMARY: This notice announces the availability of and request comments on a proposed Technical Standard Order (TSO)-C170, HF Radio Communications Transceiver Equipment Operating within the Radio Frequency Range 1.5 to 30.00 Megahertz. The proposed TSO tells manufacturers seeking TSO authorization or letter of design approval what minimum performance standards (MPS) their HF radio communications transceiver equipment must first meet for approval and identification with the applicable TSO markings.

DATES: Submit comments on or before June 18, 2004.

ADDRESSES: Send all comments on the proposed TSO-C170 to: Federal Aviation Administration, Aircraft Certification Service, Aircraft Engineering Division, Avionic Systems Branch, AIR-130, Room 815, 800 Independence Avenue, SW., Washington, DC 20591. ATTN. Mr. Moin Abulhosn, AIR-130. You may deliver comments to: Federal Aviation Administration, Room 815, 800 Independence Avenue, SW., Washington, DC 20591.

FOR FURTHER INFORMATION CONTACT: Mr. Moin Abulhosn, AIR-130, Room 815 Federal Aviation Administration, Aircraft Certification Service, Aircraft Engineering Division, 800 Independence Avenue, SW., Washington, DC 20591, Telephone (202) 385-4648, FAX: (202) 385-4651, or e-mail: moin.abulhosn@faa.gov.

SUPPLEMENTARY INFORMATION:

Comments Invited

You are invited to comment on the proposed TSO identified in this notice by submitting written data, views, or arguments to the address listed above. Your comments should identify “Comments to proposed TSO-C170”. You may examine all comments revised on the proposed TSO before and after the comment closing date at the Federal Aviation Administration, Room 815 800 Independence Avenue, SW., Washington, DC 20591, weekdays except Federal holidays, between 8:30 a.m. and 4:30 p.m. The Director of the Aircraft Certification Service will consider all communications received on or before the closing date before issuing the final TSO.

Background

This proposed TSO-C170 combines into one TSO the proposed minimum performance standards of TSO-C31d, High Frequency Radio Communications Transmitting Equipment Operating Within the Radio Frequency Range of 1.5 to 30.00 Megahertz and the proposed TSO-C32d, High Frequency Radio Communications Receiving Equipment Operating Within the Radio Frequency Range of 1.5 to 30.00 Megahertz. Furthermore TSO-C170 conforms to the latest TSO boilerplate wording to include a functionality definition used to specify the Failure Hazard Classification unique to HF radio communication transceiver equipment. This proposed TSO also changes the technical requirements necessary to meet the MPS such as:

a. The environmental conditions and test procedures specified in TRCA/DO-160D, Environmental Conditions and Test Procedures for Airborne Equipment, dated July 29, 1997, Change 1, Change 2 and Change 3; and

b. The software development guidelines specified in TRCA/DO-189B, Software Considerations in Airborne Systems and Equipment Certification, dated December 1, 1992.

The basic TSO provides minimum operational performance standards for HF radio communications transceiver equipment that should be helpful to users, designers, manufacturers, and installers of HF radio communications transceiver equipment.

How To Obtain Copies

You may get a copy of the proposed TSO from the Internet at: http://av-info.faa.gov/tso/Tsopro/Proposed.htm. You may also request a copy from Mr. Moin Abulhosn. See the section entitled FOR FURTHER INFORMATION CONTACT for the complete address.

Issued in Washington, DC, on May 17, 2004.
Susan J.M. Cabler,
Acting Manager, Aircraft Engineering Division, Aircraft Certification Service.

[FR Doc. 04-11453 Filed 5-19-04; 8:45 am]

BILLING CODE 4910-13-M